DEPARTMENT OF COMMERCE

National Oceanic and Atmospheric Administration

[I.D. 011806I]

Endangered and Threatened Species; Take of Anadromous Fish

AGENCY: National Marine Fisheries Service (NMFS), National Oceanic and Atmospheric Administration, Commerce.

ACTION: Issuance of permits 1185, 1280, 1440, and 1452.

SUMMARY: NMFS has issued permit 1185 to Natural Resource Scientists, Inc., permit 1280 to Turlock Irrigation District, permit 1440 to the Interagency Ecological Program, and permit 1452 to KDH Environmental Services.

ADDRESSES: Copies of the permit may be obtained from the Protected Resources Division, NMFS, 650 Capitol Mall, Suite 8-300, Sacramento, CA 95814, or e-mail your request to: FRNpermits.sac@noaa.gov.

FOR FURTHER INFORMATION CONTACT: Rosalie del Rosario at phone number 916-930-3614, or e-mail: FRNpermits.sac@noaa.gov.

SUPPLEMENTARY INFORMATION: This notice is relevant to federally endangered Sacramento River winter-run Chinook salmon (Oncorhynchus tshawytscha), threatened Central Valley spring-run Chinook salmon (O. tshawytscha), threatened Central Valley steelhead (O. mykiss), threatened Central California Coast steelhead (O. mykiss), and/or proposed listed North American green sturgeon (Acipenser medirostris)

Permits

Permit 1185 was issued to Natural Resource Scientists, Inc. on February 4, 2005, authorizing capture (using rotary screw traps) and release of ESA-threatened adult and juvenile Central Valley steelhead in the Merced River. All lethal take is expected to be unintentional and Permit 1185 authorizes unintentional mortality associated with research activities not to exceed 5 percent of the captured ESA-listed fish (e.g., 1 adult and 1 juvenile Central Valley steelhead). The purpose of the study is to provide scientific data on outmigrating salmonids in the Merced River and to assess several ongoing fishery management programs. Permit 1185 expires on June 30, 2009.

Permit 1280 was issued to Turlock Irrigation District on September 15, 2005, authorizing capture (using seines, rotary screw traps, hook-and-line angling, electrofishing and stranding surveys) and release of ESA-threatened adult and juvenile Central Valley steelhead in the lower Tuolumne River. All lethal take is expected to be unintentional and Permit 1280 authorizes unintentional mortality associated with research activities not to exceed 1 percent of the captured ESA-listed fish (e.g., 1 adult or 1 juvenile Central Valley steelhead). The purpose of the study is to monitor juvenile fall-run Chinook salmon density and distribution, steelhead life history, salmonid outmigration patterns, and assess predator populations in the lower Tuolumne River. Permit 1280 expires on December 31, 2010.

Permit 1440 was issued to the Interagency Ecological Program on December 1, 2005, authorizing take of ESA-listed Sacramento River winter-run Chinook salmon, Central Valley spring-run Chinook salmon, Central Valley steelhead, Central California Coast steelhead, and proposed listed North American green sturgeon, while conducting an interagency ecological monitoring program in the San Francisco Estuary, which includes the Sacramento-San Joaquin Delta. Permit 1440 authorizes the Interagency Ecological Program to take listed salmonids to conduct 15 fisheries-related studies to provide ecological information for use in the management of the Estuary. These include long-term monitoring projects and short-term projects to study the trends in abundance, distribution, and species interactions of resident and anadromous fishes and invertebrates. All lethal take is expected to be unintentional. From the salmonids that are captured or handled, potential lethal take should not exceed more than 8 percent adult and 10 percent juvenile Sacramento River winter-run Chinook salmon, 9 percent adult and 7 percent juvenile Central Valley spring-run Chinook salmon, 8 percent adult and 3 percent juvenile Central Valley steelhead, and 4 percent adult and sub-adult North American green sturgeon. No lethal take of Central California Coast steelhead is authorized. Permit 1440 expires on June 30, 2015.

Permit 1452 was issued to KDH Environmental Services on February 10, 2005, authorizing capture (by hook-and-line fishing) and release of ESA-threatened adult Central Valley steelhead in the lower Tuolumne River. All lethal take is expected to be unintentional and Permit 1452 authorizes unintentional mortality associated with research activities not to exceed 1 percent of the captured ESA-listed fish (e.g., 4 adult Central Valley steelhead). The purpose of the study is to provide scientific data on the distribution and abundance of steelhead and rainbow trout in the Lower Tuolumne River. This information will be used to prepare a biological evaluation on the impacts of the New Don Pedro Project on Central Valley steelhead. Permit 1452 expires on December 31, 2008.

NMFS has determined that take levels authorized in the permits will not jeopardize listed salmon and steelhead nor result in the destruction or adverse modification of critical habitat where described.

NMFS' conditions in the permit will ensure that the take of ESA-listed anadromous fish will not jeopardize the continued existence of the listed species. Issuance of this permit, as required by the ESA, was based on a finding that the permit: (1) was applied for in good faith; (2) will not operate to the disadvantage of the listed species which are the subject of the permit; and (3) is consistent with the purposes and policies set forth in section 2 of the ESA. This permit was issued in accordance with, and is subject to, 50 CFR part 222, the NMFS regulations governing listed species permits.

Dated: January 24, 2006.
Angela Somma,
Chief, Endangered Species Division, Office of Protected Resources, National Marine Fisheries Service.

[FR Doc. E6-1110 Filed 1-27-06; 8:45 am]

BILLING CODE 3510-22-S